DEPARTMENT OF COMMERCE

International Trade Administration

(A-580-844)

Steel Concrete Reinforcing Bars from The Republic of Korea: Notice of Rescission of Antidumping Duty Administrative Review

AGENCY: Import Administration, International Trade Administration, Department of Commerce.

EFFECTIVE DATE: March 2, 2007.

FOR FURTHER INFORMATION CONTACT: Terre Keaton Stefanova or Katherine Johnson, AD/CVD Operations, Office 2, Import Administration, International Trade Administration, U.S. Department of Commerce, 14th Street and Constitution Avenue, NW, Washington, DC 20230; telephone: (202) 482-1280 or (202) 482-4929, respectively.

SUPPLEMENTARY INFORMATION:

Background

On September 1, 2006, the Department of Commerce (the Department) published in the Federal Register a notice of “Opportunity To Request Administrative Review” of the antidumping duty order on steel concrete reinforcing bars from the Republic of Korea for the period September 1, 2005, through August 31, 2006. See Antidumping or Countervailing Duty Order, Finding, or Suspended Investigation; Opportunity to Request Administrative Review, 71 FR 52061 (September 1, 2006). On September 29, 2006, the Rebar Trade Action Coalition and its individual members¹ (the petitioners) requested a review of the antidumping duty order on steel concrete reinforcing bars from the Republic of Korea produced or exported by Dongkuk Steel Mill Co., Ltd. (DSM), Korea Iron and Steel Co., Ltd. (KISCO), and Hwanyoung Steel Industries Co., Ltd. (HSI) (collectively referred to as the respondents). On October 31, 2006, the Department published a notice of initiation of an administrative review with respect to these companies. See Notice of Initiation of Antidumping and Countervailing Duty Administrative Reviews, 71 FR 63752 (October 31, 2006).

¹ Nucor Corporation, Gerdau Ameristeel Corporation, and Commercial Metals Company.

On November 14, 2006, the Department received letters from each of the respondents stating that neither they nor any company deemed affiliated with them in the Department's past determinations in this proceeding: 1) exported any subject merchandise to the United States; 2) made any sales of subject merchandise to customers in the United States; or, 3) had any entries of subject merchandise for consumption by customers in the United States during the period of review (i.e., September 1, 2005, through August 31, 2006) (POR). In order to substantiate the respondents' statements, we conducted a query of the U.S. Customs and Border Protection's (CBP) database and found no entries of subject merchandise during the POR. On December 18, 2006, based on our findings, we notified parties of our intent to rescind the review and provided them the opportunity to submit comments (see December 18, 2006, memorandum to the file titled Intent to Rescind in the Antidumping Duty Administrative Review on Steel Concrete Reinforcing Bars from the Republic of Korea) (December 18, 2006, memo). On January 5, 2007, the petitioners filed comments.

The petitioners argue that, prior to rescinding this review, the Department should ensure that during the POR, DSM's U.S. affiliate, Dongkuk International Inc., did not sell subject merchandise produced by Korean manufacturers other than DSM, and did not sell from inventory subject merchandise that entered during a previous POR.

Regarding the petitioners' argument, as stated above, we conducted a query of the CBP database in order to substantiate the respondents' statements that neither they nor their affiliates made exports, sales or entries of subject merchandise during the POR, which is our standard practice for confirming a respondent's “no-shipments” claims. Furthermore, the Department's practice, supported by substantial precedent, requires that there be entries during the POR upon which to assess antidumping duties. See e.g., Granular Polytetrafluoroethylene Resin from Japan: Notice of Rescission of Antidumping Duty Administrative Review, 70 FR 44088 (August 1, 2005). The results of our query indicate that there were no entries of subject merchandise during the POR. Therefore, absent evidence to the contrary on the record of this review, we have no reason to call into question the statements made by DSM or the other respondents.

Rescission of Review

In accordance with 19 CFR 351.213(d)(3), the Department may rescind an administrative review, in whole or with respect to a particular exporter or producer, if the Department concludes that, during the period covered by the review, there were no entries, exports, or sales of the subject merchandise. Because we found no evidence of entries of subject merchandise and because we have no reason to question the respondents' statement that they nor any company deemed affiliated with them in past segments of this proceeding had sales, exports or entries of subject merchandise during the POR, we are rescinding this review pursuant to 19 CFR 351.213(d)(3). See, e.g., Steel Concrete Reinforcing Bars From Turkey; Final Results, Rescission of Antidumping Duty Administrative Review in Part, and Determination not to Revoke in Part, 68 FR 53127 (September 9, 2003) (after finding no evidence of entries of subject merchandise from two companies that made “no-shipments” claims, the Department stated that “consistent with our practice, we are rescinding our review for Diler and Ekinciler”).

Although the respondents did not have any sales or exports of subject merchandise to the United States during the POR, their subject merchandise may have entered the United States during the POR under their CBP antidumping case number by way of intermediaries (without their knowledge). After 15 days of publication of this notice, the Department will instruct CBP to liquidate such entries at the “All-Others” rate in effect on the date of the entry. See Antidumping and Countervailing Duty Proceedings: Assessment of Antidumping Duties, 68 FR 23954 (May 6, 2003).

This notice serves as a reminder to parties subject to administrative protective orders (APOs) of their responsibility concerning the return or destruction of proprietary information disclosed under APO in accordance with 19 CFR Sec. 351.305(a)(3). Timely written notification of the return/destruction of APO materials or conversion to judicial protective order is hereby requested. Failure to comply with the regulations and terms of an APO is a sanctionable violation.

This notice is published in accordance with sections 751(a)(1) and 777(i)(1) of the Tariff Act of 1930, as amended, and 19 CFR 351.213(d)(4).

Dated: February 26, 2007.
Stephen J. Claeys,
Deputy Assistant Secretary for Import Administration.

[FR Doc. E7-3700 Filed 3-1-07; 8:45 am]

BILLING CODE 3510-DS-S